DEPARTMENT OF TRANSPORTATION

Office of the Secretary of Transportation

[Docket No. DOT-OST-2017-0090]

Notice of Funding Opportunity for the Department of Transportation's Nationally Significant Freight and Highway Projects (INFRA Grants) for Fiscal Years 2017 and 2018

AGENCY: Office of the Secretary of Transportation, U.S. Department of Transportation.

ACTION: Notice of funding opportunity.

SUMMARY: The Nationally Significant Freight and Highway Projects (INFRA) program provides Federal financial assistance to highway and freight projects of national or regional significance. This notice solicits applications for awards under the program's FY 2017 and FY 2018 funding, subject to future appropriations.

DATES: Applications must be submitted by 8:00 p.m. EST November 2, 2017. The Grants.gov “Apply” function will open by August 1, 2017.

ADDRESSES: Applications must be submitted through www.Grants.gov. Only applicants who comply with all submission requirements described in this notice and submit applications through www.Grants.gov will be eligible for award.

FOR FURTHER INFORMATION CONTACT: For further information regarding this notice, please contact the Office of the Secretary via email at INFRAgrants@dot.gov. For more information about highway projects, please contact Crystal Jones at (202) 366-2976. For more information about maritime projects, please contact Robert Bouchard at (202) 366-5076. For more information about rail projects, please contact Stephanie Lawrence at (202) 493-1376. For more information about railway-highway grade crossing projects, please contact Karen McClure at (202) 493-6417. For all other questions, please contact Paul Baumer at (202) 366-1092. A TDD is available for individuals who are deaf or hard of hearing at 202-366-3993. In addition, up to the application deadline, the Department will post answers to common questions and requests for clarifications on USDOT's Web site at https://www.transportation.gov/buildamerica/INFRAgrants.

SUPPLEMENTARY INFORMATION:

Table of Contents

A. Program Description

1. Overview

2. Key Program Objectives

3. Program Name

B. Federal Award Information

1. Amount Available

2. Restrictions on Award Portfolio

3. Repeat Applications

C. Eligibility Information

1. Eligible Applicants

2. Cost Sharing or Matching

3. Other

D. Application and Submission Information

1. Address

2. Content and Form of Application

3. Unique entity identifier and System for Award Management (SAM)

4. Submission Dates and Timelines

E. Application Review Information

1. Criteria

2. Review and Selection Process

3. Additional Information

F. Federal Award Administration Information

1. Federal Award Notices

2. Administrative and National Policy Requirements

3. Reporting

G. Federal Awarding Agency Contacts

H. Other Information

1. Invitation for Public Comment on the FY 2017-2018 Notice

2. Protection of Confidential Business Information

3. Publication of Application Information

A. Program Description

1. Overview

The INFRA program provides Federal financial assistance to highway and freight projects of national or regional significance. To maximize the value of FY 2017-2018 INFRA funds for all Americans, the Department is focusing the competition on transportation infrastructure projects that support four key objectives, each of which is discussed in greater detail in section A.2:

(1) Supporting economic vitality at the national and regional level;

(2) Leveraging Federal funding to attract other, non-Federal sources of infrastructure investment, as well as accounting for the life-cycle costs of the project;

(3) Using innovative approaches to improve safety and expedite project delivery; and

(4) Holding grant recipients accountable for their performance and achieving specific, measurable outcomes identified by grant applicants.

This notice's focus on the four key objectives does not compromise the Department's position that safety is our top priority. The Department is committed to reducing traffic fatalities and serious injuries on the surface transportation system. To reinforce the Department's safety priority, the USDOT will require projects that receive INFRA awards to consider and effectively respond to data-driven transportation safety concerns. Section F.2.a describes related requirements that the Department will impose on each INFRA project. These requirements focus on performing detailed, data-driven safety analyses and the incorporating project elements that respond to State-specific safety priority areas.

2. Key Program Objectives

This section of the notice describes the four key program objectives that the Department intends to advance with FY 2017-2018 INFRA funds. These four objectives are reflected in later portions of the notice, including section E.1, which describes how the Department will evaluate applications to advance these objectives, and section D.2.b, which describes how applicants should address the four objectives in their applications.

a. Key Program Objective #1: Supporting Economic Vitality

A strong transportation network is absolutely critical to the functioning and growth of the American economy. The nation's industry depends on the transportation network not only to move the goods that it produces, but also to facilitate the movements of the workers who are responsible for that production. When the nation's highways, railways, and ports function well, that infrastructure connects people to jobs, increases the efficiency of delivering goods and thereby cuts the costs of doing business, reduces the burden of commuting, and improves overall well-being. When the transportation network fails—whether due to increasing bottlenecks, growing connectivity gaps, or unsafe, crumbling conditions—our economy suffers. Projects that address congestion in our major urban areas, particularly those that do so through the use of congestion pricing or the deployment of advanced technology, projects that bridge gaps in service in our rural areas, and projects that attract private economic development, all support national or regional economic vitality. Therefore, the INFRA program seeks these types of infrastructure projects.

b. Key Program Objective #2: Leveraging of Federal Funding

The Department is committed to supporting the President's call for more infrastructure investment. That goal will not be achieved through Federal investment alone, but rather requires States, local governments, and the private sector to share responsibility and accountability, and to maximize their own contributions. The Federal government provided about 25%, or about $100 billion of the estimated $416 billion of public investment in transportation and water infrastructure in 2014,¹ but more infrastructure investment is possible if the significant Federal contribution is a smaller portion of a larger total.

¹ https://www.cbo.gov/sites/default/files/114th-congress-2015-2016/reports/49910-Infrastructure.pdf.

To increase the leveraging of Federal funding, the INFRA program will give priority consideration to projects that use all available non-Federal resources for development, construction, operations, and maintenance. (As described further in E.1.a (Criterion #2), the Department will also consider the level at which these resources are in fact available, particularly for rural areas). These projects include projects that maximize State, local, and private sector funding, projects that raise revenue directly, projects that benefit from local self-help, and projects that pair INFRA grants with broader-scale innovative financing, including Federal credit assistance such as Transportation Infrastructure Finance and Innovation Act (TIFIA) and Railroad Rehabilitation Improvement Financing (RRIF) loans.

By emphasizing leveraging of Federal funding, the Department expects to expand the total resources being used to build and restore infrastructure, rather than have Federal dollars merely displace or substitute for State, local, and private funds.

c. Key Program Objective #3: Innovation

The Department seeks to use the INFRA program to encourage innovation in three areas: (1) Environmental review and permitting; (2) use of experimental project delivery authorities; and (3) safety and technology. The Department anticipates making awards that advance each innovation area, but it does not necessarily expect each INFRA project to address all three innovation areas. Instead, the Department expects applicants to identify the innovation areas that provide benefit to their project and propose activities in those areas.

Innovation Area #1: Environmental Review and Permitting

Some project sponsors indicate that Federal law and regulations impose requirements on transportation projects that delay the timely delivery of infrastructure. Some claim that the current approach to environmental review and permitting can lead to costly delays that are not justified by environmental benefits. Others note that excessive spending for permitting and studies diverts resources from environmental mitigation. Fortunately, recent transportation authorizations, including the FAST Act, have introduced a number of reforms intended to reduce project timelines and costs without compromising the integrity of crucial environmental protections. The Department is eager to use the INFRA program to expand and improve upon these reforms.

Under the INFRA program the Department seeks to test new approaches to the environmental review and permitting process for infrastructure projects. This approach has four objectives: (1) Accelerating the environmental permitting and review process; (2) improving outcomes for communities and the environment; (3) facilitating concurrent and consistent environmental permitting and review, analysis and decision making across Federal agencies and geographic regions; and (4) establishing a shared vision of permitting success among all Federal agencies.

In the current practice, the resource agencies that are responsible for environmental review and permitting, including U.S. Army Corps of Engineers, the Fish and Wildlife Service, and the Environmental Protection Agency, operate independently and collaborate as necessary. This independent and distributed operation can frustrate efficient project delivery. Under the approach, the Department will aim to identify “liaisons” within each relevant resource agency. These liaisons will work closely and collaboratively with each other, project sponsors, and local field offices to steward projects participating in the effort through the environmental review process in a timely manner. The liaisons will be responsible for making consistent and timely permit determinations, while ensuring compliance with the purposes and procedures of the environmental permitting and review statutes. They will also have easy access to their counterparts throughout the Department, including in the Department's operating administrations, the Infrastructure Permitting Improvement Center, and the Build America Bureau.

The Department's aim is for liaisons to have active and defined roles early in the project development process to define potential permitting risks as early as the project scoping and the development of alternatives stages. They will coordinate activity to reduce risks, and will have specific responsibilities (e.g., dispute resolution) that are triggered when a project is at risk for missing a permit deadline. Additionally, to ensure consistency across Federal agency jurisdictions, liaisons will coordinate permitting activities between Agency-specific districts for projects that cross jurisdictional boundaries.

The Department's aim is to achieve timely and consistent environmental review and permit decisions. Liaisons' work will be tracked on the Federal Infrastructure Project Permitting Dashboard, an online tool for tracking the environmental review and authorization process for large or complex infrastructure projects.

Participation in this new approach will not remove any statutory requirements affecting project delivery, and INFRA award recipients are not required to participate. However, the Department seeks INFRA applications for projects that could benefit from this approach, which are likely larger, more complex projects, and encourages those applicants to indicate whether they are interested in participating. Because the Department views this as a potential model for future environmental review and permitting, it seeks projects that will allow it to evaluate that model.

Innovation Area #2: Special Experimental Authorities

By statute, all INFRA awards are subject to Federal requirements associated with the Federal-aid Highways program under title 23 of the United States Code. However, the Department is interested in ensuring that those requirements do not unnecessarily impede project delivery. The Federal Highway Administration (FHWA) has long encouraged increasing private sector participation in the project development, finance, design, construction, maintenance, and operations. Since 1990, FHWA has experimented with innovative contracting practices under its Special Experimental Project No. 14 (SEP-14). In 2004, FHWA established Special Experimental Project No. 15 (SEP-15), which encouraged tests and experimentation throughout the entire project development process. SEP-15 was specifically aimed at attracting private investment, leading to increased project management flexibility, more innovation, improved efficiency, timely project implementation, and new revenue streams. Under SEP-14 and SEP-15, FHWA may waive statutory and regulatory requirements under title 23 on a project-by-project basis to explore innovative processes that could be adopted through legislation. This experimental authority is available to test changes that would improve the efficiency of project delivery in a manner that is consistent with the purposes underlying existing requirements; it is not available to frustrate the purposes of existing requirements.

The Department encourages applicants for INFRA funding to consider whether their project is eligible for and would benefit from an experimental authority or waiver under SEP-14, SEP-15, or some other experimental authority program. For appropriate projects, applicants should propose to use experimental authority and describe their expected benefits. In particular, the Department is interested in proposals that will substantially accelerate the pace of project deployment.

The Department is not replacing the application processes for SEP-14, SEP-15, or other experimental programs, with this notice or the INFRA program application. Instead, it seeks detailed expressions of interest in those programs. If selected for an INFRA award, the applicant would need to satisfy the relevant programs' requirements and complete the appropriate application processes. Selection for an INFRA award does not mean a project's SEP-14 or SEP-15 proposal has been approved. The Department will make a separate determination in accordance with those programs' processes on the appropriateness of a waiver.

Innovation Area #3: Safety and Technology

In addition to these cross-cutting safety-related requirements previously mentioned (and detailed in section F.2.a of this Notice), USDOT seeks opportunities under the INFRA program to experiment with innovative approaches to transportation safety, particularly projects which incorporate innovative design solutions, enhance the environment for automated vehicles, or use technology to improve the detection, mitigation, and documentation of safety risks. Illustrative examples include:

• Innovative designs that inherently reduce safety risk;

• Conflict detection and mitigation technologies for freight and non-freight interaction (e.g., intersection alerts and signal prioritization);

• Dynamic signaling or pricing systems to reduce congestion;

• Connected vehicle technology, including systems for vehicle-to-vehicle and vehicle-to-infrastructure communications;

• Signage and design features that facilitate autonomous technologies;

• Applications to automatically capture and report safety-related issues (e.g., identifying and documenting near-miss incidents); and

• Cybersecurity elements to protect safety-critical systems.

d. Key Program Objective #4: Performance and Accountability

To maximize public benefits from INFRA funds and promote local activity that will provide benefits beyond the INFRA-funded projects, the Department seeks projects that allow it to condition funding on specific, measurable outcomes. For appropriate projects, the Department may use one or more of the following types of events to trigger availability of some or all INFRA funds: (1) Reaching project delivery milestones in a timely manner; (2) making specific State or local policy changes that advance desirable transportation outcomes; and (3) achieving transportation performance objectives that support economic vitality or improve safety.

Each of these three types of events encourages accountability from project sponsors. First, project milestones can make a project sponsor accountable for timely project delivery. For example, to ensure that planning activities will not delay construction, the Department may condition construction funds on the sponsor completing those planning activities by a specific date. Second, INFRA funds can provide an additional incentive to make specific policy changes. For example, in some jurisdictions, administrative barriers to public-private partnerships prevent project sponsors from using an effective and proven method of project delivery. In such jurisdictions, the Department can help dismantle those barriers by conditioning INFRA funds on local policy changes. Finally, the Department can improve overall performance of the transportation system by tying funding to specific performance targets. For example, if an INFRA project is awarded to improve freight movement through a corridor, the Department may condition some of the INFRA funds to be used to improve one interchange in the corridor on the project sponsor's ability to demonstrate satisfactory levels of service at other points in the corridor. Improvements at those other points on the corridor to reach the target level of service could be made with other, non-conditioned INFRA funds or with non-Federal funds.

These examples are illustrative, but the Department encourages applicants to identify other, creative ways to condition funding to advance INFRA program goals. The Department does not intend to impose these conditions on unwilling or uninterested INFRA recipients, nor does it intend to limit the types of projects that should consider accountability mechanisms. Instead, the Department encourages applicants to voluntarily identify measures through which the Department may hold them accountable, describe, in their application, how the Department could structure any conditions on funding, and detail how the structure advances INFRA program goals. As described in section E.1, an applicant-directed approach to accountability will allow the Department to differentiate among INFRA applications.

3. Program Name

The INFRA grant program is authorized as the Nationally Significant Freight and Highway Projects program at 23 U.S.C. 117. The Department formerly referred to INFRA grants as Fostering Advancements in Shipping and Transportation for the Long-term Achievement of National Efficiencies (FASTLANE) grants. The Department has renamed the program Infrastructure For Rebuilding America (INFRA), to call attention to new priorities: Rebuilding and revitalizing our economy through infrastructure investment.

B. Federal Award Information

1. Amount Available

The FAST Act authorizes the INFRA program at $4.5 billion for fiscal years (FY) 2016 through 2020, including $850 million ² for FY 2017 and $900 million for FY 2018, to be awarded by USDOT on a competitive basis to projects of national or regional significance that meet statutory requirements. This notice solicits applications for up to $1.56 billion in FY 2017-2018 INFRA funds. Approximately $710 million of FY 2017 funds are available for INFRA awards.³ The Department anticipates that approximately $810-855 million of FY 2018 funds will be available for awards, but that total is uncertain because the Department is issuing this notice before appropriations legislation has been enacted for FY 2018. The estimate may be higher or lower than the final amount, which is dependent on future appropriations legislation. Any award under this notice will be subject to the availability of funds.

² Funds are subject to the overall Federal-aid highway obligation limitation, and funds in excess of the obligation limitation provided to the program are distributed to the States. While $850 million is authorized for FY 2017, $788.8 million is available for award. For additional information see FAST Act § 1102(f) and the Transportation, Housing and Urban Development, and Related Agencies Appropriations Act, 2016, Pub. L. 114-113, div. L § 120.

³ The Department intends to award the 10 percent of the FY 2017 funding reserved for small projects to applications received under the Notice published in November, 2016. $709.92 million of FY 2017 funds is available under the terms of this Notice.

2. Restrictions on Award Portfolio

The Department will make awards under the INFRA program to both large and small projects. (Refer to section C.3.ii.for a definition of large and small projects.) For a large project, the FAST Act specifies that an INFRA grant must be at least $25 million. For a small project, including both construction awards and project development awards, the grant must be at least $5 million. For each fiscal year of INFRA funds, 10 percent of available funds are reserved for small projects, and 90 percent of funds are reserved for large projects. The Department intends to use 10 percent of the available FY 2017 funding to make small project selections under the Notice of Funding Opportunity published in November of 2016. The FY 2017 funds made available under this notice are for large projects. The anticipated FY 2018 funds will be for both large and small projects.⁴ In summary, the estimated funding available for FY 2017 and FY 2018 under this notice is approximately $81 million-$85.5 million for small projects and $1.44 billion-$1.48 billion for large projects.

⁴ Subject to availability of FY 2018 funding.

The FAST Act specifies that not more than $500 million in aggregate of the $4.5 billion authorized for INFRA grants over fiscal years 2016 to 2020 may be used for grants to freight rail, water (including ports), or other freight intermodal projects that make significant improvements to freight movement on the National Highway Freight Network. After accounting for FY 2016 and previous FY 2017 INFRA selections, approximately $326 million within this constraint remains available. Only the non-highway portion(s) of multimodal projects count toward the $500 million maximum. Grade crossing and grade separation projects do not count toward the $500 million maximum for freight rail, port, and intermodal projects.

The FAST Act directs that at least 25 percent of the funds provided for INFRA grants must be used for projects located in rural areas, as defined in Section C.3.iv. The Department may elect to go above that threshold if the appropriate projects are submitted. The USDOT must consider geographic diversity among grant recipients, including the need for a balance in addressing the needs of urban and rural areas.

3. Repeat Applications

The selection criteria described in Section E. of this Notice changed substantially from previous INFRA solicitations. Applicants who elect to resubmit an application from a previous solicitation should include a supplementary appendix which describes how their project aligns with the new selection criteria.

C. Eligibility Information

To be selected for an INFRA grant, an applicant must be an Eligible Applicant and the project must be an Eligible Project that meets the Minimum Project Size Requirement.

1. Eligible Applicants

Eligible applicants for INFRA grants are: (1) A State or group of States; (2) a metropolitan planning organization that serves an Urbanized Area (as defined by the Bureau of the Census) with a population of more than 200,000 individuals; (3) a unit of local government or group of local governments; (4) a political subdivision of a State or local government; (5) a special purpose district or public authority with a transportation function, including a port authority; (6) a Federal land management agency that applies jointly with a State or group of States; (7) a tribal government or a consortium of tribal governments; or (8) a multi-State or multijurisdictional group of public entities.

Multiple States or jurisdictions that submit a joint application should identify a lead applicant as the primary point of contact. Joint applications should include a description of the roles and responsibilities of each applicant and should be signed by each applicant. The applicant that will be responsible for financial administration of the project must be an eligible applicant.

2. Cost Sharing or Matching

This section describes the statutory cost share requirements for an INFRA award. Cost share will also be evaluated according to the “Leveraging of Federal Funding” evaluation criterion described in Section E.1.a.ii. That section clarifies that the Department seeks applications for projects that exceed the minimum non-Federal cost share requirement described here.

INFRA grants may be used for up to 60 percent of future eligible project costs. Other Federal assistance may satisfy the non-Federal share requirement for an INFRA grant, but total Federal assistance for a project receiving an INFRA grant may not exceed 80 percent of the future eligible project costs. Non-Federal sources include State funds originating from programs funded by State revenue, local funds originating from State or local revenue-funded programs, private funds or other funding sources of non-Federal origins. If a Federal land management agency applies jointly with a State or group of States, and that agency carries out the project, then Federal funds that were not made available under titles 23 or 49 of the United States Code may be used for the non-Federal share. Unless otherwise authorized by statute, local cost-share may not be counted as non-Federal share for both the INFRA and another Federal program. For any project, the Department cannot consider previously-incurred costs or previously-expended or encumbered funds towards the matching requirement. Matching funds are subject to the same Federal requirements described in Section F.2.b as awarded funds.

For the purpose of evaluating eligibility under the statutory cost share requirements, funds from the TIFIA and RRIF credit assistance programs are considered Federal assistance and, combined with other Federal assistance, may not exceed 80 percent of the future eligible project costs.

3. Other

a. Eligible Project

Eligible projects for INFRA grants are: Highway freight projects carried out on the National Highway Freight Network (23 U.S.C. 167); highway or bridge projects carried out on the National Highway System (NHS), including projects that add capacity on the Interstate System to improve mobility or projects in a national scenic area; railway-highway grade crossing or grade separation projects; or a freight project that is (1) an intermodal or rail project, or (2) within the boundaries of a public or private freight rail, water (including ports), or intermodal facility. A project within the boundaries of a freight rail, water (including ports), or intermodal facility must be a surface transportation infrastructure project necessary to facilitate direct intermodal interchange, transfer, or access into or out of the facility and must significantly improve freight movement on the National Highway Freight Network. Improving freight movement on the National Highway Freight Network may include shifting freight transportation to other modes, thereby reducing congestion and bottlenecks on the National Highway Freight Network. For a freight project within the boundaries of a freight rail, water (including ports), or intermodal facility, Federal funds can only support project elements that provide public benefits.

b. Eligible Project Costs

INFRA grants may be used for the construction, reconstruction, rehabilitation, acquisition of property (including land related to the project and improvements to the land), environmental mitigation, construction contingencies, equipment acquisition, and operational improvements directly related to system performance. Statutorily, INFRA grants may also fund development phase activities, including planning, feasibility analysis, revenue forecasting, environmental review, preliminary engineering, design, and other preconstruction activities, provided the project meets statutory requirements. However, the Department is seeking to use INFRA funding on projects that result in construction. Public-private partnership assessments for projects in the development phase are also eligible costs.

INFRA grant recipients may use INFRA funds to pay the subsidy and administrative costs necessary to receive TIFIA.

c. Minimum Project Size Requirement

For the purposes of determining whether a project meets the minimum project size requirement, the Department will count all future eligible project costs under the award and some related costs incurred before selection for an INFRA grant. Previously-incurred costs will be counted toward the minimum project size requirement only if they were eligible project costs under Section C.3.b. and were expended as part of the project for which the applicant seeks funds. Although those previously-incurred costs may be used for meeting the minimum project size thresholds described in this Section, they cannot be reimbursed with INFRA grant funds, nor will they count toward the project's required non-Federal share.

i. Large Projects

The minimum project size for large projects is the lesser of $100 million; 30 percent of a State's FY 2016 Federal-aid apportionment if the project is located in one State; or 50 percent of the larger participating State's FY 2016 apportionment for projects located in more than one State. The following chart identifies the minimum total project cost for projects for FY 2017 for both single and multi-State projects.

State | FY17 NSFHP (30% of FY16 apportionment) One-State minimum (millions) | FY17 NSFHP (50% of FY16 apportionment) Multi-State minimum * (millions) | FY18 NSFHP (30% of FY17 apportionment) One-State minimum (millions) | FY18 NSFHP (50% of FY17 apportionment) Multi-State minimum * (millions)
Alabama | $100 | $100 | $100 | $100
Alaska | 100 | 100 | 100 | 100
Arizona | 100 | 100 | 100 | 100
Arkansas | 100 | 100 | 100 | 100
California | 100 | 100 | 100 | 100
Colorado | 100 | 100 | 100 | 100
Connecticut | 100 | 100 | 100 | 100
Delaware | 51 | 86 | 52 | 87
Dist. of Col. | 49 | 81 | 49 | 82
Florida | 100 | 100 | 100 | 100
Georgia | 100 | 100 | 100 | 100
Hawaii | 51 | 86 | 52 | 87
Idaho | 87 | 100 | 88 | 100
Illinois | 100 | 100 | 100 | 100
Indiana | 100 | 100 | 100 | 100
Iowa | 100 | 100 | 100 | 100
Kansas | 100 | 100 | 100 | 100
Kentucky | 100 | 100 | 100 | 100
Louisiana | 100 | 100 | 100 | 100
Maine | 56 | 94 | 57 | 95
Maryland | 100 | 100 | 100 | 100
Massachusetts | 100 | 100 | 100 | 100
Michigan | 100 | 100 | 100 | 100
Minnesota | 100 | 100 | 100 | 100
Mississippi | 100 | 100 | 100 | 100
Missouri | 100 | 100 | 100 | 100
Montana | 100 | 100 | 100 | 100
Nebraska | 88 | 100 | 89 | 100
Nevada | 100 | 100 | 100 | 100
New Hampshire | 50 | 84 | 51 | 85
New Jersey | 100 | 100 | 100 | 100
New Mexico | 100 | 100 | 100 | 100
New York | 100 | 100 | 100 | 100
North Carolina | 100 | 100 | 100 | 100
North Dakota | 76 | 100 | 77 | 100
Ohio | 100 | 100 | 100 | 100
Oklahoma | 100 | 100 | 100 | 100
Oregon | 100 | 100 | 100 | 100
Pennsylvania | 100 | 100 | 100 | 100
Puerto Rico | 44 | 74 | 44 | 74
Rhode Island | 67 | 100 | 67 | 100
South Carolina | 100 | 100 | 100 | 100
South Dakota | 86 | 100 | 87 | 100
Tennessee | 100 | 100 | 100 | 100
Texas | 100 | 100 | 100 | 100
Utah | 100 | 100 | 100 | 100
Vermont | 62 | 100 | 63 | 100
Virginia | 100 | 100 | 100 | 100
Washington | 100 | 100 | 100 | 100
West Virginia | 100 | 100 | 100 | 100
Wisconsin | 100 | 100 | 100 | 100
Wyoming | 78 | 100 | 79 | 100
* For multi-State projects, the minimum project size is the largest of the multi-State minimums from the participating States.

ii. Small Projects

A small project is an eligible project that does not meet the minimum project size described in Section C.3.c.i.

d. Large/Small Project Requirements

For a large project to be selected, the Department must determine that the project generates national or regional economic, mobility, or safety benefits; is cost-effective; contributes to one or more of the goals described in 23 U.S.C 150; is based on the results of preliminary engineering; has one or more stable and dependable funding or financing sources available to construct, maintain, and operate the project, and contingency amounts are available to cover unanticipated cost increases; cannot be easily and efficiently completed without other Federal funding or financial assistance; and is reasonably expected to begin construction no later than 18 months after the date of obligation. These requirements are discussed in greater detail in section D.2.b.vii.

For a small project to be selected, the Department must consider the cost-effectiveness of the proposed project and the effect of the proposed project on mobility in the State and region in which the project is carried out.

e. Rural/Urban Area

This section describes the statutory definition of urban and rural areas and the minimum statutory requirements for projects that meet those definitions. For more information on how the Department consider projects in urban, rural, and low population areas as part of the selection process, see Section E.1.a. Criterion #2, and E.1.c.

The INFRA statute defines a rural area as an area outside an Urbanized Area ⁵ with a population of over 200,000. In this notice, urban area is defined as inside an Urbanized Area, as designated by the U.S. Census Bureau, with a population of 200,000 or more.⁶ Rural and urban definitions differ in some other USDOT programs, including TIFIA and the FY 2016 TIGER Discretionary Grants program. Cost share requirements and minimum grant awards are the same for projects located in rural and urban areas. The Department will consider a project to be in a rural area if the majority of the project (determined by geographic location(s) where the majority of the money is to be spent) is located in a rural area. However, if a project consists of multiple components, as described under section C.3.f or C.3.g., then for each separate component the Department will determine whether that component is rural or urban. In some circumstances, including networks of projects under section C.3.g that cover wide geographic regions, this component-by-component determination may result in INFRA awards that include urban and rural funds.

⁵ For Census 2010, the Census Bureau defined an Urbanized Area (UA) as an area that consists of densely settled territory that contains 50,000 or more people. Updated lists of UAs are available on the Census Bureau Web site at http://www2.census.gov/geo/maps/dc10map/UAUC_RefMap/ua/. For the purposes of the INFRA program, Urbanized Areas with populations fewer than 200,000 will be considered rural.

⁶ See www.transportation.gov/buildamerica/InFRAgrants for a list of Urbanized Areas with a population of 200,000 or more.

f. Project Components

An application may describe a project that contains more than one component. The USDOT may award funds for a component, instead of the larger project, if that component (1) independently meets minimum award amounts described in Section B and all eligibility requirements described in Section C, including the requirements for large projects described in sections C.3.d and D.2.b.vii; (2) independently aligns well with the selection criteria specified in Section E; and (3) meets National Environmental Policy Act (NEPA) requirements with respect to independent utility. Independent utility means that the component will represent a transportation improvement that is usable and represents a reasonable expenditure of USDOT funds even if no other improvements are made in the area, and will be ready for intended use upon completion of that component's construction. If an application describes multiple components, the application should demonstrate how the components collectively advance the purposes of the INFRA program. An applicant should not add multiple components to a single application merely to aggregate costs or avoid submitting multiple applications.

Applicants should be aware that, depending upon applicable Federal law and the relationship among project components, an award funding only some project components may make other project components subject to Federal requirements as described in Section F.2.b. For example, under 40 CFR 1508.25, the NEPA review for the funded project component may need to include evaluation of all project components as connected, similar, or cumulative actions.

The Department strongly encourages applicants to identify in their applications the project components that meet independent utility standards and separately detail the costs and INFRA funding requested for each component. If the application identifies one or more independent project components, the application should clearly identify how each independent component addresses selection criteria and produces benefits on its own, in addition to describing how the full proposal of which the independent component is a part addresses selection criteria.

g. Network of Projects

An application may describe and request funding for a network of projects. A network of projects is one INFRA award that consists of multiple projects addressing the same transportation problem. For example, if an applicant seeks to improve efficiency along a rail corridor, then their application might propose one award for four grade separation projects at four different railway-highway crossings. Each of the four projects would independently reduce congestion but the overall benefits would be greater if the projects were completed together under a single award.

The USDOT will evaluate applications that describe networks of projects similar to how it evaluates projects with multiple components. Because of their similarities, the guidance in section C.3.f is applicable to networks of projects, and applicants should follow that guidance on how to present information in their application. As with project components, depending upon applicable Federal law and the relationship among projects within a network of projects, an award that funds only some projects in a network may make other projects subject to Federal requirements as described in Section F.2.

h. Application Limit

To encourage applicants to prioritize their INFRA submissions, each eligible applicant may submit no more than three applications. The three-application limit applies only to applications where the applicant is the lead applicant. There is no limit on applications for which an applicant can be listed as a partnering agency. If a lead applicant submits more than three applications as the lead applicant, only the first three received will be considered.

D. Application and Submission Information

1. Address

Applications must be submitted through www.Grants.gov. Instructions for submitting applications can be found at https://www.transportation.gov/buildamerica/InFRAgrants.

2. Content and Form of Application

The application must include the Standard Form 424 (Application for Federal Assistance), Standard Form 424C (Budget Information for Construction Programs), cover page, and the Project Narrative. More detailed information about the cover pages and Project Narrative follows.

a. Cover Page

Each application should contain a cover page with the following chart:

Project name |
Was an INFRA application for this project submitted previously? | Yes/no.
If yes, what was the name of the project in the previous application?
Previously Incurred Project Cost | $.
Future Eligible Project Cost | $.
Total Project Cost (This should be the sum of the previous two rows) | $.
INFRA Request | $.
Total Federal Funding (including INFRA) | $.
Are matching funds restricted to a specific project component? If so, which one? | Yes/no.
Is the project or a portion of the project currently located on National Highway Freight Network? | Yes/no.
Is the project or a portion of the project located on the NHS? • Does the project add capacity to the Interstate system? • Is the project in a national scenic area? | Yes/no (for each question).
Do the project components include a railway-highway grade crossing or grade separation project? • If so, please include the grade crossing ID. | Yes/no.
Do the project components include an intermodal or freight rail project, or freight project within the boundaries of a public or private freight rail, water (including ports), or intermodal facility? | Yes/no.
If answered yes to either of the two component questions above, how much of requested INFRA funds will be spent on each of these projects components?
State(s) in which project is located.
Small or large project | Small/Large.
Urbanized Area in which project is located, if applicable.
Population of Urbanized Area.
Is the project currently programmed in the: • TIP • STIP • MPO Long Range Transportation Plan • State Long Range Transportation Plan • State Freight Plan? | Yes/no (please specify in which plans the project is currently programmed).
If selected, would you be interested in participating in a new environmental review and permitting approach? | Yes/No.

b. Project Narrative for Construction Projects

The Department recommends that the project narrative follow the basic outline below to address the program requirements and assist evaluators in locating relevant information.

I. Project Description | See D.2.b.i.
II. Project Location | See D.2.b.ii.
III. Project Parties | See D.2.b.iii.
IV. Grant Funds, Sources and Uses of all Project Funding | See D.2.b.iv.
V. Merit Criteria | See D.2.b.v.
VI. Project Readiness | See D.2.b.vi and E.1.c.ii.
VII. Large/Small Project Requirements | See D.2.b.vii.

The project narrative should include the information necessary for the Department to determine that the project satisfies project requirements described in Sections B and C and to assess the selection criteria specified in Section E.1. To the extent practicable, applicants should provide supporting data and documentation in a form that is directly verifiable by the Department. The Department may ask any applicant to supplement data in its application, but expects applications to be complete upon submission.

In addition to a detailed statement of work, detailed project schedule, and detailed project budget, the project narrative should include a table of contents, maps, and graphics, as appropriate to make the information easier to review. The Department recommends that the project narrative be prepared with standard formatting preferences. (i.e., a single-spaced document, using a standard 12-point font such as Times New Roman, with 1-inch margins.) The project narrative may not exceed 25 pages in length, excluding cover pages and table of contents. The only substantive portions that may exceed the 25-page limit are documents supporting assertions or conclusions made in the 25-page project narrative. If possible, Web site links to supporting documentation should be provided rather than copies of these supporting materials. If supporting documents are submitted, applicants should clearly identify within the project narrative the relevant portion of the project narrative that each supporting document supports. At the applicant's discretion, relevant materials provided previously to a modal administration in support of a different USDOT financial assistance program may be referenced and described as unchanged. The Department recommends using appropriately descriptive final names (e.g., “Project Narrative,” “Maps,” “Memoranda of Understanding and Letters of Support,” etc.) for all attachments. The USDOT recommends applications include the following sections:

i. Project Summary

The first section of the application should provide a concise description of the project, the transportation challenges that it is intended to address, and how it will address those challenges. This section should discuss the project's history, including a description of any previously incurred costs. The applicant may use this section to place the project into a broader context of other infrastructure investments being pursued by the project sponsor.

ii. Project Location

This section of the application should describe the project location, including a detailed geographical description of the proposed project, a map of the project's location and connections to existing transportation infrastructure, and geospatial data describing the project location. If the project is located within the boundary of a Census-designated Urbanized Area, the application should identify the Urbanized Area.

iii. Project Parties

This section of the application should list all project parties, including details about the proposed grant recipient and other public and private parties who are involved in delivering the project, such as port authorities, terminal operators, freight railroads, shippers, carriers, freight-related associations, third-party logistics providers, and freight industry workforce organizations.

iv. Grant Funds, Sources and Uses of Project Funds

This section of the application should describe the project's budget. At a minimum, it should include:

(A) Previously-incurred expenses, as defined in Section C.3.c.

(B) Future eligible costs, as defined in Section C.3.c.

(C) For all funds to be used for future eligible project costs, the source and amount of those funds.

(D) For non-Federal funds to be used for future eligible project costs, documentation of funding commitments should be referenced here and included as an appendix to the application.

(E) For Federal funds to be used for future eligible project costs, the amount, nature, and source of any required non-Federal match for those funds.

(F) A budget showing how each source of funds will be spent. The budget should show how each funding source will share in each major construction activity, and present that data in dollars and percentages. Funding sources should be grouped into three categories: Non-Federal; INFRA; and other Federal. If the project contains components, the budget should separate the costs of each project component. If the project will be completed in phases, the budget should separate the costs of each phase. The budget should be detailed enough to demonstrate that the project satisfies the statutory cost-sharing requirements described in Section C.2.

(G) Information showing that the applicant has budgeted sufficient contingency amounts to cover unanticipated cost increases.

(H) The amount of the requested INFRA funds that would be subject to the $500 million maximum described in Section B.2.

In addition to the information enumerated above, this section should provide complete information on how all project funds may be used. For example, if a particular source of funds is available only after a condition is satisfied, the application should identify that condition and describe the applicant's control over whether it is satisfied. Similarly, if a particular source of funds is available for expenditure only during a fixed time period, the application should describe that restriction. Complete information about project funds will ensure that the Department's expectations for award execution align with any funding restrictions unrelated to the Department, even if an award differs from the applicant's request.

v. Merit Criteria

This section of the application should demonstrate how the project aligns with the Merit Criteria described in section E.1 of this notice. The Department encourages applicants to address each criterion or expressly state that the project does not address the criterion. Applicants are not required to follow a specific format, but the following organization, which addresses each criterion separately, promotes a clear discussion that assists project evaluators. To minimize redundant information in the application, the Department encourages applicants to cross-reference from this section of their application to relevant substantive information in other sections of the application.

The guidance here is about how the applicant should organize their application. Guidance describing how the Department will evaluate projects against the Merit Criteria is in section E.1 of this notice. Applicants also should review that section before considering how to organize their application.

Criterion #1: Support for National or Regional Economic Vitality

This section of the application should describe the anticipated outcomes of the project that support the Economic Vitality criterion (described in Section E.1.a of this notice). The applicant should summarize the conclusions of the project's benefit-cost analysis, including estimates of the project's benefit-cost ratio and net benefits. The applicant should also describe economic impacts and other data-supported benefits that are not included in the benefit-cost analysis.

The benefit-cost analysis itself should be provided as an appendix to the project narrative, as described in D.2.d. of this Notice.

Criterion #2: Leveraging of Federal Funding

This section of the application should include information that, when considered with the project budget information presented elsewhere in the application, is sufficient for the Department to evaluate how the project addresses the Leverage criterion, including:

(A) A description of the applicant's activities to maximize the non-Federal share of the project funding;

(B) a description of all evaluations of the project for private funding, the outcome of those evaluations, and all activities undertaken to pursue private funding for the project;

(C) a description of any fiscal constraints that affect the applicant's ability to use non-Federal contributions; and

(D) a description of the non-Federal share across the applicant's transportation program, if the applicant is a regular recipient of federal transportation funding; and

(E) a description of the applicant's plan to address the full life-cycle costs associated with the project, including a description of operations and maintenance funding commitments made by the applicant.

Criterion #3: Potential for Innovation

This section of the application should contain sufficient information to evaluate how the project includes or enables innovation in: (1) Environmental review and permitting; (2) use of experimental project delivery authorities; and (3) safety and technology. If the project does not address a particular innovation area, the application should state this fact.

If an applicant is proposing to participate in the environmental review and permitting approach described in section A.2.c, the application should describe how the project would benefit from participation, identify significant anticipated permitting challenges, and identify coordination that might be necessary to complete the environmental and permitting review process.

If an applicant is proposing to use SEP-14, SEP-15, or some other experimental authority program, the applicant should describe that proposal and their expected benefits. The applicant should also provide sufficient information for evaluators to confirm that the applicant's proposal would meet the requirements of the specific experimental authority program.⁷

⁷ SEP-14 information is available at https://www.fhwa.dot.gov/programadmin/contracts/sep_a.cfm. SEP-15 information is available at https://www.fhwa.dot.gov/ipd/p3/tools_programs/sep15_procedures.aspx.

If an applicant is proposing to adopt innovative safety approaches or technology, the application should demonstrate the applicant's capacity to implement those innovations, the applicant's understanding of whether the innovations will require extraordinary permitting, approvals, or other procedural actions, and the effects of those innovations on the project delivery timeline.

Criterion #4: Performance and Accountability

This section of the application should include sufficient information to evaluate how the applicant will advance the Performance and Accountability program objective. In general, the applicant should describe mechanisms that will allow the Department to hold it accountable for advancing INFRA program goals. Additional details for three approaches are provided in the following paragraphs, but these examples are not exhaustive. As described in greater detail in section A.2.d, the Department encourages applicants to identify other creative ways to condition funding to advance INFRA program goals and describe those mechanisms in this section of the application.

If the applicant is proposing to condition funding availability on timely completion of project milestones, the applicant should identify specific milestone events, provide target dates for those milestones, and propose a relationship between some or all of the requested INFRA funding and the milestones.

If the applicant is proposing to adopt a specific policy change, the applicant should provide sufficient information for evaluators to understand the existing policy, how changing the policy would advance the Department's goals, and how feasible the change will be for the applicant to complete within the project's delivery timeframe. The applicant should propose a relationship between some or all of the requested INFRA funding and its completion of the change.

If the applicant is proposing to condition funding availability on reaching specific performance targets, the applicant should detail those performance targets in detail, describe the feasibility of tracking and achieving the target within the project's delivery timeframe, and propose a relationship between some or all of the requested INFRA funding and the performance objective.

vi. Project Readiness

This section of the application should include information that, when considered with the project budget information presented elsewhere in the application, is sufficient for the Department to evaluate whether the project is reasonably expected to begin construction in a timely manner. To assist the Department's project readiness assessment, the applicant should provide the information requested on technical feasibility, project schedule, project approvals, and project risks, each of which is described in greater detail in the following sections. Applicants are not required to follow the specific format described here, but this organization, which addresses each relevant aspect of project readiness, promotes a clear discussion that assists project evaluators. To minimize redundant information in the application, the Department encourages applicants to cross-reference from this section of their application to relevant substantive information in other sections of the application.

The guidance here is about what information applicants should provide and how the applicant should organize their application. Guidance describing how the Department will evaluate a project's readiness is described in section E.1 of this notice. Applicants also should review that section before considering how to organize their application.

(A) Technical Feasibility. The applicant should demonstrate the technical feasibility of the project with engineering and design studies and activities; the development of design criteria and/or a basis of design; the basis for the cost estimate presented in the INFRA application, including the identification of contingency levels appropriate to its level of design; and any scope, schedule, and budget risk-mitigation measures. Applicants should include a detailed statement of work that focuses on the technical and engineering aspects of the project and describes in detail the project to be constructed.

(B) Project Schedule. The applicant should include a detailed project schedule that identifies all major project milestones. Examples of such milestones include State and local planning approvals (programming on the Statewide Transportation Improvement Program), start and completion of NEPA and other Federal environmental reviews and approvals including permitting; design completion; right of way acquisition; approval of plans, specifications and estimates (PS&E); procurement; State and local approvals; project partnership and implementation agreements including agreements with railroads; and construction. The project schedule should be sufficiently detailed to demonstrate that:

(1) All necessary activities will be complete to allow INFRA funds to be obligated sufficiently in advance of the statutory deadline (September 30, 2020 for FY 2017 funds, September 30, 2021 for FY 2018 funds), and that any unexpected delays will not put the funds at risk of expiring before they are obligated;

(2) the project can begin construction quickly upon obligation of INFRA funds, and that the grant funds will be spent expeditiously once construction starts; and

(3) all real property and right-of-way acquisition will be completed in a timely manner in accordance with 49 CFR part 24, 23 CFR part 710, and other applicable legal requirements or a statement that no acquisition is necessary.

(C) Required Approvals.

(1) Environmental Permits and Reviews. The application should demonstrate receipt (or reasonably anticipated receipt) of all environmental approvals and permits necessary for the project to proceed to construction on the timeline specified in the project schedule and necessary to meet the statutory obligation deadline, including satisfaction of all Federal, State and local requirements and completion of the NEPA process. Specifically, the application should include:

(a) Information about the NEPA status of the project. If the NEPA process is complete, an applicant should indicate the date of completion, and provide a Web site link or other reference to the final Categorical Exclusion, Finding of No Significant Impact, Record of Decision, and any other NEPA documents prepared. If the NEPA process is underway, but not complete, the application should detail the type of NEPA review underway, where the project is in the process, and indicate the anticipated date of completion of all milestones and of the final NEPA determination. If the last agency action with respect to NEPA documents occurred more than three years before the application date, the applicant should describe why the project has been delayed and include a proposed approach for verifying and, if necessary, updating this material in accordance with applicable NEPA requirements.

(b) Information on reviews, approvals, and permits by other agencies. An application should indicate whether the proposed project requires reviews or approval actions by other agencies,⁸ indicate the status of such actions, and provide detailed information about the status of those reviews or approvals and should demonstrate compliance with any other applicable Federal, State, or local requirements, and when such approvals are expected. Applicants should provide a Web site link or other reference to copies of any reviews, approvals, and permits prepared.

⁸ Projects that may impact protected resources such as wetlands, species habitat, cultural or historic resources require review and approval by Federal and State agencies with jurisdiction over those resources.

(c) Environmental studies or other documents—preferably through a Web site link—that describe in detail known project impacts, and possible mitigation for those impacts.

(d) A description of discussions with the appropriate USDOT modal administration field or headquarters office regarding the project's compliance with NEPA and other applicable Federal environmental reviews and approvals.

(e) A description of public engagement about the project that has occurred, including details on the degree to which public comments and commitments have been integrated into project development and design.

(2) State and Local Approvals. The applicant should demonstrate receipt of State and local approvals on which the project depends, such as State and local environmental and planning approvals and STIP or TIP funding. Additional support from relevant State and local officials is not required; however, an applicant should demonstrate that the project has broad public support.

(3) Federal Transportation Requirements Affecting State and Local Planning. The planning requirements applicable to the Federal-aid highway program apply to all INFRA projects, but for port, freight, and rail projects planning requirements of the operating administration that will administer the INFRA project will also apply,⁹ including intermodal projects located at airport facilities.¹⁰ Applicants should demonstrate that a project that is required to be included in the relevant State, metropolitan, and local planning documents has been or will be included in such documents. If the project is not included in a relevant planning document at the time the application is submitted, the applicant should submit a statement from the appropriate planning agency that actions are underway to include the project in the relevant planning document.

⁹ In accordance with 23 U.S.C. 134 and 135, all projects requiring an action by the Federal Highway Administration (FHWA) must be in the applicable plan and programming documents (e.g., metropolitan transportation plan, transportation improvement program (TIP) and statewide transportation improvement program (STIP)). Further, in air quality non-attainment and maintenance areas, all regionally significant projects, regardless of the funding source, must be included in the conforming metropolitan transportation plan and TIP. Inclusion in the STIP is required under certain circumstances. To the extent a project is required to be on a metropolitan transportation plan, TIP, and/or STIP, it will not receive an INFRA grant until it is included in such plans. Projects not currently included in these plans can be amended by the State and metropolitan planning organization (MPO). Projects that are not required to be in long range transportation plans, STIPs, and TIPs will not need to be included in such plans in order to receive an INFRA grant. Port, freight rail, and intermodal projects are not required to be on the State Rail Plans called for in the Passenger Rail Investment and Improvement Act of 2008. However, applicants seeking funding for freight projects are encouraged to demonstrate that they have done sufficient planning to ensure that projects fit into a prioritized list of capital needs and are consistent with long-range goals. Means of demonstrating this consistency would include whether the project is in a TIP or a State Freight Plan that conforms to the requirements Section 70202 of Title 49 prior to the start of construction. Port planning guidelines are available at StrongPorts.gov.

¹⁰ Projects at grant obligated airports must be compatible with the FAA-approved Airport Layout Plan (ALP), as well as aeronautical surfaces associated with the landing and takeoff of aircraft at the airport. Additionally, projects at an airport: Must comply with established Sponsor Grant Assurances, including (but not limited to) requirements for non-exclusive use facilities, consultation with users, consistency with local plans including development of the area surrounding the airport, and consideration of the interest of nearby communities, among others; and must not adversely affect the continued and unhindered access of passengers to the terminal.

To the extent possible, freight projects should be included in a State Freight Plan and supported by a State Freight Advisory Committee (49 U.S.C. 70201, 70202). Applicants should provide links or other documentation supporting this consideration.

Because projects have different schedules, the construction start date for each INFRA grant will be specified in the project-specific agreements signed by relevant modal administration and the grant recipients, based on critical path items that applicants identify in the application and will be consistent with relevant State and local plans.

(D) Assessment of Project Risks and Mitigation Strategies. Project risks, such as procurement delays, environmental uncertainties, increases in real estate acquisition costs, uncommitted local match, or lack of legislative approval, affect the likelihood of successful project start and completion. The applicant should identify all material risks to the project and the strategies that the lead applicant and any project partners have undertaken or will undertake in order to mitigate those risks. The applicant should assess the greatest risks to the project and identify how the project parties will mitigate those risks.

To the extent it is unfamiliar with the Federal program, the applicant should contact USDOT modal field or headquarters offices as found at www.transportation.gov/infragrants for information on what steps are pre-requisite to the obligation of Federal funds in order to ensure that their project schedule is reasonable and that there are no risks of delays in satisfying Federal requirements.

vii. Large/Small Project Requirements

To select a large project for award, the Department must determine that the project satisfies several statutory requirements enumerated at 23 U.S.C. 117(g) and restated in the table below. The application must include sufficient information for the Department to make these determinations. Applicants should use this section of the application to summarize how their project meets each of the following requirements. Applicants are not required to reproduce the table below in their application, but following this format will help evaluators identify the relevant information that supports each large project determination. To minimize redundant information in the application, the Department encourages applicants to cross-reference from this section of their application to relevant substantive information in other sections of the application.

Large project determination | Guidance
1. Does the project generate national or regional economic, mobility, safety benefits? | Summarize the economic, mobility, and safety benefits described in Section V of the application, and describe the scale of their impact in national or regional terms.
2. Is the project cost effective? | Highlight the results of the benefit cost analysis described in Section V of the application.
3. Does the project contribute to one or more of the Goals listed under 23 U.S.C. 150 (and shown below)? (b) National Goals.—It is in the interest of the United States to focus the Federal-aid highway program on the following national goals: | Specify the Goal(s) and summarize how the project contributes to that goal(s). This information may also be found in Section I or Section V.
(1) Safety.—To achieve a significant reduction in traffic fatalities and serious injuries on all public roads.
(2) Infrastructure condition.—To maintain the highway infrastructure asset system in a state of good repair.
(3) Congestion reduction.—To achieve a significant reduction in congestion on the National Highway System.
(4) System reliability.—To improve the efficiency of the surface transportation system.
(5) Freight movement and economic vitality.—To improve the national freight network, strengthen the ability of rural communities to access national and international trade markets, and support regional economic development.
(6) Environmental sustainability.—To enhance the performance of the transportation system while protecting and enhancing the natural environment.
(7) Reduced project delivery delays.—To reduce project costs, promote jobs and the economy, and expedite the movement of people and goods by accelerating project completion through eliminating delays in the project development and delivery process, including reducing regulatory burdens and improving agencies' work practices.
4. Is the project based on the results of preliminary engineering? | Yes/No. Please provide evidence of preliminary engineering. For more information on preliminary engineering activities, please see: https://www.fhwa.dot.gov/federalaid/150311.cfm.
5a. With respect to non-Federal financial commitments, does the project have one or more stable and dependable funding or financing sources to construct, maintain, and operate the project? | Please indicate funding source(s) and amounts. Historical trends, current policy, or future feasibility analyses can be used as evidence to substantiate the stable and dependable nature of the non-Federal funding or financing.
5b. Are contingency amounts available to cover unanticipated cost increases? | Contingency amounts are often, but not always, expressly shown in project budgets or the SF-424C. If your project cost estimates include an implicit contingency calculation, please say so directly.
6. Is it the case that the project cannot be easily and efficiently completed without other Federal funding or financial assistance available to the project sponsor? | Discussion of the impact that not having any Federal funding, including an INFRA grant, would have on project's schedule, cost, or likelihood of completion, can help convey whether a project can be completed as easily or efficiently without Federal funding available to the project sponsor.
7. Is the project reasonably expected to begin construction not later than 18 months after the date of obligation of funds for the project? | Please reference project budget and schedule when providing evidence.

For a small project to be selected, the Department must consider the cost effectiveness of the proposed project and the effect of the proposed project on mobility in the State and region in which the project is carried out. If an applicant seeks an award for a small project, it should use this section to provide information on the project's cost effectiveness and the project's effect on the mobility in its State and region, or refer to where else the information can be found in the application.

c. Guidance for Benefit-Cost Analysis

This section describes the recommended approach for the completion and submission of a benefit-cost analysis (BCA) as an appendix to the Project Narrative. The results of the analysis should be summarized in the Project Narrative directly, as described in Section D.2.b.v.

Applicants should delineate each of their project's expected outcomes in the form of a complete BCA to enable the Department to consider cost-effectiveness (small projects), determine whether the project will be cost effective (large projects), estimate a benefit-cost ratio and calculate the magnitude of net benefits and costs for the project. In support of each project for which an applicant seeks funding, that applicant should submit a BCA that quantifies the expected benefits of the project against a no-build baseline, provides monetary estimates of the benefits' economic value, and compares the properly-discounted present values of these benefits to the project's estimated costs.

The primary economic benefits from projects eligible for INFRA grants are likely to include savings in travel time costs, vehicle operating costs, and safety costs for both existing users of the improved facility and new users who may be attracted to it as a result of the project. Reduced damages from vehicle emissions and savings in maintenance costs to public agencies may also be quantified. Applicants may describe other categories of benefits in the BCA that are more difficult to quantify and value in economic terms, such as improving the reliability of travel times or improvements to the existing human and natural environments (such as increased connectivity, improved public health, storm water runoff mitigation, and noise reduction), while also providing numerical estimates of the magnitude and timing of each of these additional impacts wherever possible. Any benefits claimed for the project, both quantified and unquantified, should be clearly tied to the expected outcomes of the project.

The BCA should include the full costs of developing, constructing, operating, and maintaining the proposed project, as well as the expected timing or schedule for costs in each of these categories. The BCA may also consider the present discounted value of any remaining service life of the asset at the end of the analysis period (net of future maintenance and rehabilitation costs) as a deduction from the estimated costs. The costs and benefits that are compared in the BCA should also cover the same project scope.

The BCA should carefully document the assumptions and methodology used to produce the analysis, including a description of the baseline, the sources of data used to project the outcomes of the project, and the values of key input parameters. Applicants should provide all relevant files used for their BCA, including any spreadsheet files and technical memos describing the analysis (whether created in-house or by a contractor). The spreadsheets and technical memos should present the calculations in sufficient detail and transparency to allow the analysis to be reproduced by USDOT evaluators. Detailed guidance for estimating some types of quantitative benefits and costs, together with recommended economic values for converting them to dollar terms and discounting to their present values, are available in the Department's guidance for conducting BCAs for projects seeking funding under the INFRA program (see https://www.transportation.gov/buildamerica/infragrants).

Applicants for freight projects within the boundaries of a freight rail, water (including ports), or intermodal facility should also quantify the benefits of their proposed projects for freight movements on the National Highway Freight Network, and should demonstrate that the Federal share of the project funds only elements of the project that provide public benefits.

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. The Department may not make an INFRA grant to an applicant until the applicant has complied with all applicable unique entity identifier and SAM requirements and, if an applicant has not fully complied with the requirements by the time the Department is ready to make an INFRA grant, the Department may determine that the applicant is not qualified to receive an INFRA grant and use that determination as a basis for making an INFRA grant to another applicant.

4. Submission Dates and Timelines

a. Deadline

Applications must be submitted by 8:00 p.m. EST November 2, 2017. The Grants.gov “Apply” function will open by August 1, 2017.

To submit an application through Grants.gov, applicants must:

(1) Obtain a Data Universal Numbering System (DUNS) number:

(2) Register with the System Award for Management (SAM) at www.sam.gov; and

(3) Create a Grants.gov username and password;

(4) The E-business Point of Contact (POC) at the applicant's organization must also respond to the registration email from Grants.gov and login at Grants.gov to authorize the POC as an Authorized Organization Representative (AOR). Please note that there can only be one AOR per organization.

Please note that the Grants.gov registration process usually takes 2-4 weeks to complete and that the Department will not consider late applications that are the result of failure to register or comply with Grants.gov applicant requirements in a timely manner. For information and instruction on each of these processes, please see instructions at http://www.grants.gov/web/grants/applicants/applicant-faqs.html. If interested parties experience difficulties at any point during the registration or application process, please call the Grants.gov Customer Service Support Hotline at 1(800) 518-4726, Monday-Friday from 7:00 a.m. to 9:00 p.m. EST.

b. Consideration of Application

Only applicants who comply with all submission deadlines described in this notice and submit applications through Grants.gov will be eligible for award. Applicants are strongly encouraged to make submissions in advance of the deadline.

c. Late Applications

Applications received after the deadline will not be considered except in the case of unforeseen technical difficulties outlined in Section D.4.d.

d. Late Application Policy

Applicants experiencing technical issues with Grants.gov that are beyond the applicant's control must contact INFRAgrants@dot.gov prior to the application deadline with the user name of the registrant and details of the technical issue experienced. The applicant must provide:

(1) Details of the technical issue experienced;

(2) Screen capture(s) of the technical issues experienced along with corresponding Grants.gov “Grant tracking number”;

(3) The “Legal Business Name” for the applicant that was provided in the SF-424;

(4) The AOR name submitted in the SF-424;

(5) The DUNS number associated with the application; and

(6) The Grants.gov Help Desk Tracking Number.

To ensure a fair competition of limited discretionary funds, the following conditions are not valid reasons to permit late submissions: (1) Failure to complete the registration process before the deadline; (2) failure to follow Grants.gov instructions on how to register and apply as posted on its Web site; (3) failure to follow all of the instructions in this notice of funding opportunity; and (4) technical issues experienced with the applicant's computer or information technology environment. After the Department reviews all information submitted and contact the Grants.gov Help Desk to validate reported technical issues, USDOT staff will contact late applicants to approve or deny a request to submit a late application through Grants.gov. If the reported technical issues cannot be validated, late applications will be rejected as untimely.

E. Application Review Information

1. Criteria

a. Merit Criteria for Construction Projects

To differentiate among applications for construction projects under this notice, the Department will consider the extent to which the project addresses the follow criteria, which are explained in greater detail below and reflect the key program objectives described in section A.2: (1) Support for national or regional economic vitality; (2) leveraging of Federal funding; (3) potential for innovation; and (4) performance and accountability. The Department is neither weighting these criteria nor requiring that each application address every criterion, but the Department expects that competitive applications will substantively address all four criteria.

Criterion #1: Support for National or Regional Economic Vitality

The Department will consider the extent to which a project would support the economic vitality of either the nation or a region. To the extent possible, the Department will rely on quantitative, data-supported analysis to assess how well a project addresses this criterion, including an assessment of the applicant-supplied benefit-cost analysis described in section D.2.d. In addition to considering the anticipated outcomes of the project that align with this criterion, the Department will consider estimates of the project's benefit-cost ratio and net quantifiable benefits.

There are several different types of projects that the Department anticipates will successfully support national or regional economic vitality, including projects that:

• Achieve a significant reduction in traffic fatalities and serious injuries on the surface transportation system;

• Improve interactions between roadway users, reducing the likelihood of derailments or high consequence events;

• Eliminate bottlenecks in the freight supply chain;

• Ensure or restore the good condition of infrastructure that supports commerce and economic growth;

• Sustain or advance national or regional economic development in areas of need, including projects that provide or improve connections to the Nation's transportation network to support the movement of freight and people; and

• Reduce barriers separating workers from employment centers, including projects that are primarily oriented toward reducing traffic congestion and corridor projects that reduce transportation network gaps to connect peripheral regions to urban centers or job opportunities.

The Department anticipates that applications for networks of projects are likely to align well with this evaluation criterion because networks of projects often are able to address problems on a broader scale.

Criterion #2: Leveraging of Federal Funding

To maximize the impact of INFRA awards, the Department seeks to leverage INFRA funding with non-Federal contributions. Therefore, the Department will consider the extent to which an applicant proposes to use non-Federal funding. For example, an application that proposes a 20 percent Federal share will be more competitive than an otherwise identical application proposing 50 percent Federal share. For the purposes of this criterion, funds from Federal credit programs, including TIFIA and RRIF, will be considered non-Federal funding.

There are three additional types of information that the Department will consider when evaluating an applicant's non-Federal contributions. First, DOT recognizes that applicants have varying abilities and resources to contribute non-Federal contributions. If an applicant describes broader fiscal constraints that affect its ability to generate or draw on non-Federal contributions, the Department will consider those constraints. Relevant constraints may include the size of the population taxed to supply the matching funds, the wealth of that population, or other constraints on the raising of funds. In practice, the Department expects that projects that come from rural or less-wealthy applicants will have to meet a lower standard for leverage than projects coming from urban or more wealthy applicants; however, the Department still expects all applicants' projects to maximize leverage to the extent they are able. Second, the Department recognizes that some applicants consolidate Federal funding into a minimum number of projects to simplify their burden complying with Federal administrative requirements. For those applicants, the Federal share on specific projects may be much higher than the overall Federal share of their overall transportation program. If an applicant follows that practice, explains their practice in their application, and provides evidence establishing the Federal share of their overall transportation program, the Department will consider that information. Third, the Department will consider how well the applicant has prepared for future operations and maintenance costs associated with their project's life-cycle. Applicants should demonstrate a credible plan to maintain their asset without having to rely on future federal funding. This plan should include a description of the applicant's approach to ensuring operations and maintenance will not be underfunded in future years.

In addition, the Department seeks to increase the sources of infrastructure funding by encouraging private infrastructure investment. Therefore, projects that incorporate private sector contributions, including through a public-private partnership structure, are likely to be more competitive than those that rely solely on public non-Federal funding. Likewise, applicants who have pursued private funds for appropriate projects are likely to be more competitive under this program than applicants who have not. If an applicant omits information on the applicability and pursuit of private funds, the Department may conclude that the applicant has not considered viable non-Federal funding alternatives and an INFRA award would be premature.

This evaluation criterion is separate from the statutory cost share requirements for INFRA grants, which are described Section C.2. Those statutory requirements establish the minimum permissible non-Federal share; they do not define a competitive INFRA project.

Criterion #3: Potential for Innovation

The Department seeks to use INFRA program to encourage innovation in three areas: (1) Environmental review and permitting; (2) use of experimental project delivery authorities; and (3) safety and technology. Under this criterion, the Department will consider the extent to which a project includes or enables innovation in each of those areas.

In Innovation Area #1, as described in section A.2.c, the Department seeks to establish a new approach to the process of Federal environmental review and permitting. When making INFRA award decisions, the Department will consider an applicant's interest in the participating in this new approach and the extent to which the project could benefit from that participation. The Department will also consider the degree to which the results of a project's participation might be representative and reproducible to other departmental or government-wide projects or programs.

In Innovation Area #2, as described in section A.2.c, the Department seeks innovative approaches to project delivery under the auspices of the FHWA SEP-14 and SEP-15 programs and any other applicable experimental programs. When making INFRA award decisions, the Department will consider the applicant's proposals to use those programs, whether the proposals are consistent with the objectives and requirements of those programs, the potential benefits that experimental authorities or waivers might provide to the project, and the broader applicability of potential results.

Finally, in Innovation Area #3, as described in section A.2.c, the Department seeks to experiment with innovative approaches to transportation safety, particularly in relation to automated vehicles and the detection, mitigation, and documentation of safety risks. When making INFRA award decisions, the Department will consider any innovative safety approaches proposed by the applicant, the safety benefits that those approaches could produce, and the broader applicability of the potential results. As described in section F.2.a, the Department expects all projects to implement baseline safety improvements consistent with FHWA's list of “Proven Countermeasures” and will not consider those improvements under this criterion.

Criterion #4: Performance and Accountability

The Department intends to award INFRA funding to projects that will be delivered on agreed-upon schedules, that will generate clear, quantifiable, results, and that will advance the Department's transportation policy goals. The Department expects all applicants to provide accurate estimates of benefits of their project, its delivery schedule, and total costs. However, the Department will consider the extent to which the applicant proposes specific measures and conditions allowing the Department to ensure accountability, as described in section A.2.d. Instead of rewarding unrealistic promises, the Department intends to reward thoughtful planning, efficient delivery, and effective policy.

b. Additional Considerations

i. Geographic Diversity

By statute, when selecting INFRA projects, the Department must consider contributions to geographic diversity among recipients, including the need for a balance between the needs of rural and urban communities. However, the Department also recognizes that it can better balance the needs of rural and urban communities if it does not take a binary view of urban and rural. Accordingly, in addition to considering whether a project is “rural” as defined by the INFRA statute and described in section C.3.e, when balancing the needs of rural and urban communities, the Department will consider the actual population of the community that each project serves.

ii. Project Readiness

During application evaluation, the Department considers project readiness in two ways: To assess the likelihood of successful project delivery and to confirm that a project will satisfy statutory readiness requirements.

First, the Department will consider significant risks to successful completion of a project, including risks associated with environmental review, permitting, technical feasibility, funding, and the applicant's capacity to manage project delivery. Risks do not disqualify projects from award, but competitive applications clearly and directly describe achievable risk mitigation strategies. A project with mitigated risks is more competitive than a comparable project with unaddressed risks.

Second, by statute, the Department cannot award a large project unless that project is reasonably expected to begin construction within 18 months of obligation of funds for the project. Obligation occurs when a selected applicant enters a written, project-specific agreement with the Department and is generally after the applicant has satisfied applicable administrative requirements, including transportation planning and environmental review requirements. Depending on the nature of pre-construction activities included in the awarded project, the Department may obligate funds in phases. Preliminary engineering and right-of-way acquisition activities, such as environmental review, design work, and other preconstruction activities, do not fulfill the requirement to begin construction within 18 months of obligation for large projects. By statute, INFRA funds must be obligated within three years of the end of the fiscal year for which they are authorized. Therefore, for awards with FY 2017 funds, the Department will determine that large projects with an anticipated obligation date beyond September 30, 2020 are not reasonably expected to begin construction within 18 months of obligation. For awards with FY 2018 funds, that deadline is one year later: September 30, 2021.

2. Review and Selection Process

The USDOT will review all eligible applications received before the application deadline. The INFRA process consists of a Technical Evaluation phase and Senior Review. In the Technical Evaluation phase, teams will, for each project, determine whether the project satisfies statutory requirements and rate how well it addresses the selection criteria. The Senior Review Team will consider the applications and the technical evaluations to determine which projects to advance to the Secretary for consideration. The Secretary will ultimately select the projects for award. A Quality Control and Oversight Team will ensure consistency across project evaluations and appropriate documentation throughout the review and selection process.

3. Additional Information

Prior to award, each selected applicant will be subject to a risk assessment as required by 2 CFR 200.205. The Department must review and consider any information about the applicant that is in the designated integrity and performance system accessible through SAM (currently the Federal Awardee Performance and Integrity Information System (FAPIIS)). An applicant may review information in FAPIIS and comment on any information about itself. The Department will consider comments by the applicant, in addition to the other information in FAPIIS, in making a judgment about the applicant's integrity, business ethics, and record of performance under Federal awards when completing the review of risk posed by applicants.

F. Federal Award Administration Information

1. Federal Award Notices

Following the evaluation outlined in section E, the Secretary will announce awarded projects by posting a list of selected projects at https://www.transportation.gov/buildamerica/INFRAgrants. Following the announcement, the Department will contact the point of contact listed in the SF 424 to initiate negotiation of a project-specific agreement.

2. Administrative and National Policy Requirements

a. Safety Requirements

The Department will require INFRA projects to meet two general requirements related to safety. First, INFRA projects must be part of a thoughtful, data-driven approach to safety. Each State maintains a strategic highway safety plan.¹¹ INFRA projects will be required to incorporate appropriate elements that respond to priority areas identified in that plan and are likely to yield safety benefits. Second, INFRA projects will incorporate two categories of safety-related activities. The first category encompasses activities that the Federal Highway Administration (FHWA) has identified as “proven safety countermeasures” due to their history of demonstrated effectiveness.¹² The second category encompasses safety-related tools, technologies, and practices from FHWA's Every Day Counts initiative.¹³

¹¹ Information on State-specific strategic highway safety plans is available at https://safety.fhwa.dot.gov/shsp/other_resources.cfm.

¹² Information on FHWA proven safety countermeasures is available at: https://safety.fhwa.dot.gov/provencountermeasures/.

¹³ Information of the FHWA Everyday Counts Initiative is available at https://www.fhwa.dot.gov/innovation/everydaycounts/.

After selecting INFRA recipients, the Department will work with those recipients on a project-by-project basis to determine the specific safety requirements that are appropriate for each award.

b. Other Administrative and Policy Requirements

All INFRA awards will be administered pursuant to the Uniform Administrative Requirements, Cost Principles and Audit Requirements for Federal Awards found in 2 CFR part 200, as adopted by USDOT at 2 CFR part 1201. A project carried out under the INFRA program will be treated as if the project is located on a Federal-aid highway. All INFRA projects are subject to the Buy America requirement at 23 U.S.C. 313. Additionally, applicable Federal laws, rules and regulations of the relevant operating administration administering the project will apply to the projects that receive INFRA grants, including planning requirements, Stakeholder Agreements, and other requirements under the Department's other highway, transit, rail, and port grant programs. For an illustrative list of the applicable laws, rules, regulations, executive orders, policies, guidelines, and requirements as they relate to an INFRA grant, please see http://www.ops.fhwa.dot.gov/Freight/infrastructure/nsfhp/fy2016_gr_exhbt_c/index.htm.

The applicability of Federal requirements to a project may be affected by the scope of the NEPA reviews for that project. For example, under 23 U.S.C. 313(g), Buy America requirements apply to all contracts that are eligible for assistance under title 23, United States Code, and are carried out within the scope of the NEPA finding, determination, or decision regardless of the funding source of such contracts if at least one contract is funded with Title 23 funds.

3. Reporting

a. Progress Reporting on Grant Activity

Each applicant selected for an INFRA grant must submit the Federal Financial Report (SF-425) on the financial condition of the project and the project's progress, as well as an Annual Budget Review and Program Plan to monitor the use of Federal funds and ensure accountability and financial transparency in the INFRA program.

b. Reporting of Matters Related to Integrity and Performance

If the total value of a selected applicant's currently active grants, cooperative agreements, and procurement contracts from all Federal awarding agencies exceeds $10,000,000 for any period of time during the period of performance of this Federal award, then the applicant during that period of time must maintain the currency of information reported to the System for Award Management (SAM) that is made available in the designated integrity and performance system (currently the Federal Awardee Performance and Integrity Information System (FAPIIS)) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance reviews required for Federal procurement contracts, will be publicly available.

G. Federal Awarding Agency Contacts

For further information concerning this notice, please contact the Office of the Secretary via email at InFRAgrants@dot.gov. For more information about highway projects, please contact Crystal Jones at (202) 366-2976. For more information about maritime projects, please contact Robert Bouchard at (202) 366-5076. For more information about rail projects, please contact Stephanie Lawrence at (202) 493-1376. For more information about railway-highway grade crossing projects, please contact Karen McClure at (202) 493-6417. For all other questions, please contact Paul Baumer at (202) 366-1092. A TDD is available for individuals who are deaf or hard of hearing at 202-366-3993. In addition, up to the application deadline, the Department will post answers to common questions and requests for clarifications on USDOT's Web site at https://www.transportation.gov/buildamerica/InFRAgrants. To ensure applicants receive accurate information about eligibility or the program, the applicant is encouraged to contact USDOT directly, rather than through intermediaries or third parties, with questions.

H. Other Information

1. Invitation for Public Comment on the FY 2017-2018 Notice

The FAST Act authorized the INFRA program through FY 2020. This notice solicits applications for FY 2017 and FY 2018 only. The Department invites interested parties to submit comments about this notice's contents, and the Department's implementation choices, as well as suggestions for clarification in future INFRA rounds. The Department may consider the submitted comments and suggestions when developing subsequent INFRA solicitations and guidance, but submitted comments will not affect the selection criteria for the FY 2017-FY 2018 round. Applications or comments about specific projects should not be submitted to the docket. Any application submitted to the docket will not be reviewed. Comments should be sent to DOT-OST-0090 by November 2, 2017, but, to the extent practicable, the Department will consider late filed comments.

2. Protection of Confidential Business Information

All information submitted as part of, or in support of, any application shall use publicly-available data or data that can be made public and methodologies that are accepted by industry practice and standards, to the extent possible. If the application includes information the applicant considers to be a trade secret or confidential commercial or financial information, the applicant should do the following: (1) Note on the front cover that the submission “Contains Confidential Business Information (CBI)”; (2) mark each affected page “CBI”; and (3) highlight or otherwise denote the CBI portions.

The Department protects such information from disclosure to the extent allowed under applicable law. In the event the Department receives a Freedom of Information Act (FOIA) request for the information, USDOT will follow the procedures described in its FOIA regulations at 49 CFR 7.17. Only information that is ultimately determined to be confidential under that procedure will be exempt from disclosure under FOIA.

3. Publication of Application Information

Following the completion of the selection process and announcement of awards, the Department intends to publish a list of all applications received along with the names of the applicant organizations and funding amounts requested.

Issued in Washington, DC, on June 28, 2017.
Elaine L. Chao,
Secretary of Transportation.

[FR Doc. 2017-14042 Filed 7-3-17; 8:45 am]

BILLING CODE 4910-9X-P